DEPARTMENT OF DEFENSE

Department of the Army; Corps of Engineers

Coastal Engineering Research Board (CERB)

AGENCY: Department of the Army, DoD.

ACTION: Notice of meeting.

SUMMARY: In accordance with Section 10(a)(2) of the Federal Advisory Committee Act (Pub. L. 92-463), announcement is made of the following committee meeting:

Name of Committee: Coastal Engineering Research Board (CERB).

Date of Meeting: April 2, 2008.

Place: Marriott New Orleans Metairie at Lakeway, 3838 N. Causeway Boulevard, Metairie, LA 70002.

Time: 8 a.m. to 3:30 p.m.

FOR FURTHER INFORMATION CONTACT: Inquiries and notice of intent to attend the meeting may be addressed to Colonel Richard B. Jenkins, Executive Secretary, Commander, U.S. Army Engineer Research and Development Center, Waterways Experiment Station, 3909 Halls Ferry Road, Vicksburg, MS 39180-6199.

SUPPLEMENTARY INFORMATION: The Board provides broad policy guidance and review of plans and fund requirements for the conduct of research and development of research projects in consonance with the needs of the coastal engineering field and the objectives of the Chief of Engineers.

Proposed Agenda: The theme of the meeting is “Regional System-Wide Analysis Lessons Learned from the Louisiana Coastal Protection and Restoration (LACPR) Study and the Mississippi Coastal Improvement Project (MsCIP).” The morning presentations will be given on the lessons learned from LACPR and MsCIP system-based approach and presentations on the oceanographic, sediment, and fresh water systems and ecology aspects of the regional system-wide analysis of LACPR and MsCIP. The afternoon presentations will deal with the economical, sociological and political systems, and the States' perspectives pertaining to the regional system-wide analysis of LACPR and MsCIP. In the evening, the Board will go into Executive Session to discuss ongoing and future action items.

These meetings are open to the public; participation by the public is scheduled for 2:45 p.m. on April 2, 2008.

The entire meeting is open to the public, but since seating capacity of the meeting is limited, advance notice of attendance is required. Oral participation by public attendees is encouraged during the time scheduled on the agenda; written statements may be submitted prior to the meeting or up to 30 days after the meeting.

Brenda S. Bowen,
Army Federal Register Liaison Officer.

[FR Doc. E8-5132 Filed 3-13-08; 8:45 am]

BILLING CODE 3710-61-P